DEPARTMENT OF THE INTERIOR

National Park Service

Fire Management Plan, Draft Environmental Impact Statement, Saguaro National Park, AZ

AGENCY: National Park Service, Department of the Interior.

ACTION: Notice of availability of the Draft Environmental Impact Statement for the Fire Management Plan, Saguaro National Park.

SUMMARY: Pursuant to the National Environmental Policy Act of 1969, 42 U.S.C. 4332(c), the National Park Service announces the availability of draft Environmental Impact Statement for the Fire Management Plan, Saguaro National Park.

DATES: The National Park Service will accept comments from the public on the Draft Environmental Impact Statement for 60 days after publication of this notice. No public meetings are scheduled at this time.

ADDRESSES: Information will be available for public review and comment in the office of the Superintendent, Saguaro National Park, 3693 South Old Spanish Trail, Tucson, Arizona, 520-733-5100, sagu_management@nps.gov.

FOR FURTHER INFORMATION CONTACT: Fire Management Officer, Saguaro National Park, 520-733-5130.

SUPPLEMENTARY INFORMATION: If you wish to comment, you may submit your comments by any one of several methods. You may mail comments to Saguaro National Park, 3693 South Old Spanish Trail, Tucson, AZ 85730-5699. You may also comment via the Internet to sagu_management@nps.gov. Please submit Internet comments as an ASCII file avoiding the use of special characters and any form of encryption. Please also include “Attn: Fire Management Officer” and your name and return address in your Internet message. If you do not receive a confirmation from the system that we have received your Internet message, contact us directly at Fire Management Officer, 520-733-5130. Finally, you may hand-deliver comments to Administrative Office, Saguaro National Park, 3693 South Old Spanish Trail, Tucson, AZ. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: December 9, 2003.
Michael D. Snyder,
Deputy Director, Intermountain Region, National Park Service.

[FR Doc. 04-1879 Filed 1-28-04; 8:45 am]

BILLING CODE 4310-08-P